DEPARTMENT OF TRANSPORTATION

Federal Aviation Administration

RTCA Special Committee 205/EUROCAE Working Group 71: Software Considerations in Aeronautical Systems Second Joint Plenary Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held October 24-28, 2005 starting at 9 a.m.

ADDRESSES: The meeting will be held at EUROCONTROL Headquarters, Rue de la Fusee, 96, B-1130 Brussels, Belgium.

FOR FURTHER INFORMATION CONTACT: (1) RTCA Secretariat, 1828 L Street, NW., Suite 805, Washington, DC 20036; telephone (202) 833-9339; fax (202) 833-9434; Web site http://www.rtca.org; (2) EUROCONTROL, telephone +32 2 729 9011; fax +32 2 729 0944.

SUPPLEMENTARY INFORMATION: Pursuant to section 10(a)(2) of the Federal Advisory Committee Act (Pub. L. 92-463, 5 U.S.C., Appendix 2), notice is hereby given for a Special Committee 205/EUROCAE Working Group 71 meeting. Note: On arrival at EUROCONTROL please have photo identification available (either a passport, a drivers license bearing a photograph or an identity card) to assist you in your badge being issued. The agenda will include:

• October 24:

• Sub-group Meetings: Members liaise with their individual chairs for details.

• October 25:

• Registration.

• Opening Plenary Session (Welcome and Introductory Remarks, Review/Accept Agenda and 1st Joint Plenary Summary).

• EUROCONTROL Presentation.

• CNS-ATM New Term of Reference and proposal for handling it.

• Report of Sub-Group Activity: SG3, SG4, SG5, SG6, SG1, SG7.

• Issue List.

• Other Committee/Other Documents Interfacing Reports: CAST; WG-60/SC-200; SD-203; WG-63/SAE S-18.

• Development of Modified Sub-Groups, other.

• Sub-Group Break Out Sessions.

• October 26:

• Sub-Group Break Out Sessions.

• Sub-Group Joint Sessions (Other Joint Sessions as Required).

• October 27:

• Stand-Up Plenary to Co-ordinate Efforts.

• Sub-Group Break Out Sessions.

• Sub-Group Joint Sessions (Other Joint Sessions as Required).

• October 28:

• Sub-Group Reports: SG3, SG4, SG5, SG6, SG7, SG2.

• SG1: SCWG Document Integration Sub-Group.

• Closing Plenary Session (Other Business, Date and Place of Next Meeting, Meeting Evaluation, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 8, 2005.
Natalie Ogletree,
FAA General Engineer, RTCA Advisory Committee.

[FR Doc. 05-18808 Filed 9-20-05; 8:45 am]

BILLING CODE 4910-13-M